DEPARTMENT OF LABOR

Employment and Training Administration

Investigations Regarding Certification of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 10, 2000.

Interested persons are invited to submit written comments regarding the subject matter of the investigations to the Director, Division of Trade Adjustment Assistance, at the address shown below, not later than July 10, 2000.

The petitions filed in this case are available for inspection at the Office of the Director, Division of Trade Adjustment Assistance, Employment and Training Administration, U.S. Department of Labor, 200 Constitution Avenue, NW, Washington, DC 20210.

Signed at Washington, DC this 5th day of June, 2000.
Grant D. Beale,
Program Manager, Division of Trade Adjustment Assistance.

Appendix
[Petitions instituted on 06/05/2000]
TA-W | Subject firm (petitioners) | Location | Date of petition | Product(s)
37,736 | Transsouthern Leasing (Wkrs) | Selma, AL | 05/15/2000 | Overals, jackets and tote bags.
37,737 | Union Special Corp (Wkrs) | Huntley, IL | 05/01/2000 | Industrial sewing machines.
37,738 | Goodyear Tire & Rubber (USWA) | Green, OH | 05/24/2000 | Rubber air springs—auto, trucks trains.
37,739 | Applied Sewing Resources (Wkrs) | Orland, CA | 05/20/2000 | Sew luggage and carry bags.
37,740 | Compair Leroi (Wkrs) | Independence, VA | 05/19/2000 | Recipricating air compressors.
37,741 | Nestle USA—Friskie (Co.) | Elizabeth City, NC | 05/23/2000 | Cat, dog treats.
37,742 | Key Industries (Co.) | Fort Scott, KS | 05/22/2000 | Bib overalls (work clothing).
37,743 | Impulse Design (Wkrs) | Van Nuys, CA | 05/23/2000 | Framed art, mirrors.
37,744 | Sommers, Inc (Co.) | Stroudsburg, PA | 05/23/2000 | Narrow fabrics.
37,745 | Louisiana Pacific (Wkrs) | Ketchikan, AK | 05/19/2000 | Lumber and chips.
37,746 | N.N. Apparel, Inc (UNITE) | Mt. Vernon, NY | 05/23/2000 | Day and evening dresses.
37,747 | Thomson 60 Case, LLC (USWA) | Lancaster, PA | 05/25/2000 | Steel shafting.
37,748 | Coats North America (Wkrs) | Anniston, AL | 05/23/2000 | Sewing thread. | 37,749 | Cast Alloys, Inc (Wkrs) | Northridge, CA | 05/23/2000 | Metals.
37,750 | Acme Steel Co. (USWA) | Riverdale, IL | 05/19/2000 | Hot rolled, cold rolled sheet and strip.
37,751 | Hoff Forest Products (Co.) | Merridian, ID | 05/24/2000 | Wood mouldings.

[FR Doc. 00-16499 Filed 6-28-00; 8:45 am]

BILLING CODE 4510-30-M